DEPARTMENT OF AGRICULTURE

Agricultural Marketing Service

[Doc. No. AMS-SC-22-0021]

Fruit and Vegetable Industry Advisory Committee (FVIAC): Notice of Intent To Reestablish Charter and Call for Nominations

AGENCY: Agricultural Marketing Service, USDA.

ACTION: Notice: Intent to reestablish charter and call for nominations.

SUMMARY: Through this Notice, the U.S. Department of Agriculture (USDA) is announcing the following: Its intent to reestablish the Charter of the Fruit and Vegetable Industry Advisory Committee (FVIAC), which expires March 16, 2022; its call for nominations to fill up to 25 upcoming vacancies for appointments in 2022, and its call for nominations for a pool of candidates to fill future unexpected vacancies in any position categories should that occur. The FVIAC is seeking members who represent the fruit and vegetable industry including growers, shippers, wholesalers/distributors, brokers, retailers/restaurant representatives, state agencies, state departments of agriculture, foodservice suppliers, and fresh-cut and other fruit and vegetable processors. The FVIAC should also include representatives of farmers markets and food hubs, organic and non-organic fruit and vegetable representatives, farmer organizations, and produce trade associations. Please note, individuals who are federally registered lobbyists, appointed to committees to exercise their own individual best judgment on behalf of the government (e.g., as Special Government Employees) are ineligible to serve and cannot be considered for USDA advisory committee membership. Members can only serve on one USDA advisory committee at a time. All nominees will undergo a USDA background check. You must submit the following to nominate yourself or someone else to the FVIAC: a resume (required), a USDA Advisory Committee Membership Background Information Form AD-755—available online at https://www.usda.gov/sites/default/files/documents/ad-755.pdf (required), a cover letter (required), and a list of endorsements or letters of recommendation (optional). The resume or curriculum vitae must be limited to five one-sided pages and should include a summary of the following information: Current and past organization affiliations; areas of expertise; education; career positions held; and any other notable positions held. For submissions received that are more than five one-sided pages in length, only the first five pages will be reviewed.

DATES: The current FVIAC Charter expires on March 16, 2022. The current representative terms expire July 9, 2022. Nomination packages including a cover letter to the Secretary, the nominee's typed resume or curriculum vitae, and a completed USDA Advisory Committee Membership Background Information Form AD-755 must be postmarked on or before May 31, 2022.

ADDRESSES: Mr. Darrell Hughes serves as the Designated Federal Officer and can be reached at (202) 378-2576 or by email SCPFVIAC@usda.gov. Mailing address: Darrell Hughes, U.S. Department of Agriculture, 1400 Independence Avenue SW, South Building-Room 1575-STOP 0235, Washington, DC 20250-0235, Attn: Fruit and Vegetable Industry Advisory Committee.

Comments: The Agricultural Marketing Service (AMS) invites interested persons to submit comments on this notice. Comments will be accepted on or before 11:59 p.m. ET on April 14, 2022, via http://www.regulations.gov: Document # AMS-SC-22-0021.

The AMS Specialty Crops Program strongly prefers comments be submitted electronically. However, written comments may be submitted (i.e., postmarked) via mail to the person listed in the ADDRESSES section by or before the abovementioned deadline.

SUPPLEMENTARY INFORMATION: Pursuant to the Federal Advisory Committee Act (FACA) (5 U.S.C. app. 2), notice is hereby given that the Secretary of Agriculture intends to reestablish the FVIAC for two years. The purpose of the FVIAC is to examine the full spectrum of issues faced by the fruit and vegetable industry and provide suggestions and ideas to the Secretary on how USDA can tailor its programs to better meet the fruit and vegetable industry's needs.

The Deputy Administrator of the AMS Specialty Crops Program serves as the FVIAC Executive Secretary. Representatives from USDA mission areas and agencies affecting the fruit and vegetable industry could be called upon to participate in the FVIAC's meetings as determined by the FVIAC Executive Secretary and the FVIAC.

Industry members are appointed by the Secretary of Agriculture and serve 2-year terms, with a maximum of three 2-year terms. The Secretary of Agriculture appointed 24 members in 2020. Twelve (12) members have served two terms and twelve (12) members have served one term. All the terms expire July 9, 2022.

The Secretary of Agriculture will appoint members for the upcoming vacancies to serve a 2-year term of office beginning in 2022 and ending in 2024. The Secretary of Agriculture will hold nominations received that could fill future unexpected vacancies in any of the position categories as a pool of candidates that the Secretary can draw upon as replacement appointees if unexpected vacancies occur. A person appointed to fill a vacancy will serve for the remainder of the 2-year term of the vacant position. The Secretary of Agriculture invites those individuals, organizations, and groups affiliated with the categories listed in the SUMMARY section to nominate individuals or themselves for membership on the FVIAC.

The full Committee expects to meet at least twice a year in-person, virtually, or by teleconference, and the meetings will be announced in the Federal Register. FVIAC workgroup/subcommittees will meet as deemed necessary by the chairperson and may meet through teleconference or by computer-based conferencing. Subcommittees may invite technical experts to present information for consideration by the subcommittee. The subcommittee meetings will not be announced in the Federal Register. All data and records available to the full Committee are expected to be available to the public when the full Committee reviews and approves the work of the subcommittee. Members must be prepared to work outside of scheduled Committee and subcommittee meetings and may be required to assist in document preparation. Committee members serve on a voluntary basis; however, travel expenses and per diem reimbursement are available.

The Secretary of Agriculture seeks a diverse group of members representing a broad spectrum of persons interested in providing suggestions and ideas on how USDA can tailor its programs to meet the fruit and vegetable industry's needs. Equal opportunity practices will be followed in all appointments to the FVIAC in accordance with USDA policies. To ensure that FVIAC recommendations take into account the needs of the diverse groups served by USDA, membership should reflect the diversity of the industry in terms of the experience of members, methods of production and distribution, marketing strategies, and other distinguishing factors, including but not limited to individuals from historically underserved communities, that will bring different perspectives and ideas to the table.

The information collection requirements concerning the nomination process have been previously cleared by the Office of Management and Budget (OMB) under OMB Control No. 0505-0001.

Date: March 24, 2022.
Cikena Reid,
USDA Committee Management Officer.

[FR Doc. 2022-06679 Filed 3-29-22; 8:45 am]

BILLING CODE P